DEPARTMENT OF JUSTICE

Notice of Lodging of Proposed Consent Decree Under the Clean Air Act

On August 3, 2018, the Department of Justice lodged a proposed consent decree with the United States District Court for the Middle District of Florida in the lawsuit entitled United States, State of Indiana, and the Oklahoma Department of Environmental Quality v. Anchor Glass Container Corporations, Inc., Civil Action No. 3:18-cv-943-J-39MCR.

In this action, the United States, the State of Indiana, and the Oklahoma Department of Environmental Quality filed a complaint pursuant to Section 113(b) of the Clean Air Act (CAA), 42 U.S.C. 7413, and relevant corollary and implementing state regulations and programs, seeking injunctive relief and civil penalties for alleged violations of these laws at Anchor Glass Container Corporations, Inc.'s glass manufacturing facilities. Anchor's facilities are located in Jacksonville, Florida; Warner Robins, Georgia; Elmira, New York; Lawrenceburg, Indiana; Shakopee, Minnesota; and Henryetta, Oklahoma.

The proposed settlement requires Anchor to implement pollution controls to reduce its nitrogen oxide (NOX emissions at nine of its eleven furnaces (two furnaces already have pollution controls installed), and the company will meet more stringent NOX emissions limits at all of its furnaces. Anchor will also implement pollution controls and take other actions to reduce sulfur dioxide (SO2 and particulate matter (PM) emissions. The settlement also requires Anchor to install and operate continuous emissions monitors for NOX and SO2 at all eleven of its glass furnaces and to install continuous opacity monitors required by the Clean Air Act. Additionally, Anchor will complete two mitigation projects, a woodburning appliance change-out project and a project to repower, retrofit, or replace vehicle diesel engines, further reducing NOX, SO2, and PM emissions. Also as part of the settlement, Anchor will pay a $1.1 million civil penalty ($550,000 to the United States and $275,000 each to the States of Indiana and Oklahoma).

The publication of this notice opens a period for public comment on the proposed Consent Decree. Comments should be addressed to the Assistant Attorney General, Environment and Natural Resources Division and should refer to United States, State of Indiana, and the Oklahoma Department of Environmental Quality v. Anchor Glass Container Corporations, Inc., Civil Action No. 3:18-cv-943-J-39MCR, D.J. Ref. No. 90-5-2-1-10406. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department website: https://www.justice.gov/enrd/consent-decrees. We will provide a paper copy of the proposed Consent Decree upon written request and payment of reproduction costs. Please mail your request and payment to: Consent Decree Library, U.S. DOJ—ENRD, P.O. Box 7611, Washington, DC 20044-7611.

Please enclose a check or money order for $26.75 (25 cents per page reproduction cost) payable to the United States Treasury.

Henry Friedman,
Assistant Section Chief, Environmental Enforcement Section, Environment and Natural Resources Division.

[FR Doc. 2018-17023 Filed 8-8-18; 8:45 am]

BILLING CODE 4410-15-P